ENVIRONMENTAL PROTECTION AGENCY

[FRL-8520-4]

Clean Water Act Section 303(d): Final Agency Action and Availability of 4 Total Maximum Daily Loads (TMDL) in Arkansas

AGENCY: Environmental Protection Agency (EPA).

ACTION: Notice of availability.

SUMMARY: This notice announces the final agency action of 4 TMDLs and the availability of the administrative record files for comment on 4 TMDLs and the calculations for these TMDLs prepared by EPA Region 6 for waters listed in the State of Arkansas, under section 303(d) of the Clean Water Act (CWA). These TMDLs were completed in response to the lawsuit styled Sierra Club, et al. v. Browner, et al., No. LR-C-99-114.

DATES: Comments must be submitted in writing to EPA on or before February 25, 2008.

ADDRESSES: Comments on the 4 TMDLs should be sent to Diane Smith, Environmental Protection Specialist, Water Quality Protection Division, U.S. Environmental Protection Agency Region 6, 1445 Ross Ave., Dallas, TX 75202-2733 or e-mail: smith.diane@epa.gov. For further information, contact Diane Smith at (214) 665-2145 or fax 214.665.7373. The administrative record files for the 4 TMDLs are available for public inspection at this address as well. Documents from the administrative record files may be viewed at http://www.epa.gov/earth1r6/6wq/npdes/tmdl/index.htm, or obtained by calling or writing Ms. Smith at the above address. Please contact Ms. Smith to schedule an inspection.

FOR FURTHER INFORMATION CONTACT: Diane Smith at (214) 665-2145.

SUPPLEMENTARY INFORMATION: In 1999, five Arkansas environmental groups, the Sierra Club, Federation of Fly Fishers, Crooked Creek Coalition, Arkansas Fly Fishers, and Save our Streams (plaintiffs), filed a lawsuit in Federal Court against the EPA, styled Sierra Club, et al. v. Browner, et al., No. LR-C-99-114. Among other claims, plaintiffs alleged that EPA failed to establish Arkansas TMDLs in a timely manner.

EPA Seeks Comment on 4 TMDLs

By this notice EPA is seeking comment on the following 4 TMDLs for waters located within Arkansas basins:

Segment-Reach | Waterbody name | Pollutant
11140109-013 | Holly Creek | Fecal coliform.
11140109-013 | Holly Creek | E. coli.
11140109-033 | Mine Creek | Fecal coliform.
11140109-033 | Mine Creek | E. coli.

EPA requests that the public provide to EPA any water quality related data and information that may be relevant to the calculations for the 4 TMDLs. EPA will review all data and information submitted during the public comment period and revise the TMDLs where appropriate. EPA will then forward the TMDLs to the Arkansas Department of Environmental Quality (ADEQ). The ADEQ will incorporate the TMDLs into its current water quality management plan.

Dated: January 14, 2008.
William K. Honker,
P.E., Deputy Director, Water Quality Protection Division, EPA Region 6.

[FR Doc. E8-1193 Filed 1-23-08; 8:45 am]

BILLING CODE 6560-50-P